FEDERAL DEPOSIT INSURANCE CORPORATION

[OMB No. 3064-0099;-0149]

Agency Information Collection Activities: Proposed Collection Renewal; Comment Request

AGENCY: Federal Deposit Insurance Corporation (FDIC).

ACTION: Notice and request for comment.

SUMMARY: The FDIC, as part of its obligations under the Paperwork Reduction Act of 1995 (PRA), invites the general public and other Federal agencies to take this opportunity to comment on the renewal of the existing information collections described below (OMB Control No. 3064-0099;-0149).

DATES: Comments must be submitted on or before November 3, 2020.

ADDRESSES: Interested parties are invited to submit written comments to the FDIC by any of the following methods:

• Agency Website: https://www.FDIC.gov/regulations/laws/federal.

• Email: comments@fdic.gov. Include the name and number of the collection in the subject line of the message.

• Mail: Manny Cabeza (202-898-3767), Regulatory Counsel, MB-3128, Federal Deposit Insurance Corporation, 550 17th Street NW, Washington, DC 20429.

• Hand Delivery: Comments may be hand-delivered to the guard station at the rear of the 17th Street building (located on F Street), on business days between 7:00 a.m. and 5:00 p.m.

All comments should refer to the relevant OMB control number. A copy of the comments may also be submitted to the OMB desk officer for the FDIC: Office of Information and Regulatory Affairs, Office of Management and Budget, New Executive Office Building, Washington, DC 20503.

FOR FURTHER INFORMATION CONTACT: Manny Cabeza, Regulatory Counsel, 202-898-3767, mcabeza@fdic.gov, MB-3128, Federal Deposit Insurance Corporation, 550 17th Street NW, Washington, DC 20429.

SUPPLEMENTARY INFORMATION: Proposal to renew the following currently approved collections of information:

1. Title: Application for Waiver of Prohibition on Acceptance of Brokered Deposits

OMB Number: 3064-0099.

Form Number: None.

Affected Public: Insured state nonmember banks and state savings associations.

Burden Estimates:

Summary of Annual Burden
Information collection description | Type of burden | Obligation to respond | Estimated number of respondents | Estimated frequency of responses | Estimated time per response | Estimated annual burden
Application for Waiver of Prohibition on Acceptance of Brokered Deposits | Reporting | Mandatory | 17 | On Occasion | 6 hours | 102 hours

Total Estimated Annual Burden: 102 hours.

General Description of Collection: Section 29 of the Federal Deposit Insurance Act prohibits undercapitalized insured depository institutions from accepting, renewing, or rolling over any brokered deposits. Adequately capitalized institutions may do so with a waiver from the FDIC, while well-capitalized institutions may accept, renew, or roll over brokered deposits without restriction. This information collection captures the burden associated with preparing and filing an application for a waiver of the prohibition on the acceptance of brokered deposits.

2. Title: Affiliate Marketing/Consumer Opt-out Notices.

OMB Number: 3064-0149.

Form Number: None.

Affected Public: Insured state nonmember banks and state savings associations that have affiliates and consumers that have a relationship with the foregoing.

Burden Estimate:

Summary of Annual Burden
Information collection description | Type of burden | Obligation to respond | Estimated number of respondents | Estimated frequency of responses | Estimated time per response | Estimated annual burden
Affiliate Marketing Disclosure—Implementation | Third-Party Disclosure | Mandatory | 8 | Annually | 6 hours | 144 hours
Consumer Opt Out Notices | Third-Party Disclosure | Voluntary | 857,027 | Annually | 5 minutes | 71,419 hours
Affiliate Marketing Disclosure—Ongoing | Third-Party Disclosure | Mandatory | 990 | Annually | 2 hours | 1,980 hours

Total Estimated Annual Burden: 73,543 hours.

General Description of Collection: Section 214 of the FACT Act requires financial institutions that wish to share information about consumers with their affiliates, to inform such consumers that they have the opportunity to opt out of such marketing solicitations. The disclosure notices and consumer responses thereto comprise the elements of this collection of information.

Request for Comment

Comments are invited on: (a) Whether the collection of information is necessary for the proper performance of the FDIC's functions, including whether the information has practical utility; (b) the accuracy of the estimates of the burden of the information collection, including the validity of the methodology and assumptions used; (c) ways to enhance the quality, utility, and clarity of the information to be collected; and (d) ways to minimize the burden of the collection of information on respondents, including through the use of automated collection techniques or other forms of information technology. All comments will become a matter of public record.

Federal Deposit Insurance Corporation.
Dated at Washington, DC, on September 1, 2020.
James P. Sheesley,
Acting Assistant Executive Secretary.

[FR Doc. 2020-19629 Filed 9-3-20; 8:45 am]

BILLING CODE 6714-01-P